DEPARTMENT OF HEALTH AND HUMAN SERVICES

Centers for Disease Control and Prevention

Disease, Disability, and Injury Prevention and Control Special Emphasis Panel: National Center for Prevention of Childhood Agricultural Injury, Program Announcement Number: OH-02-006

In accordance with section 10(a)(2) of the Federal Advisory Committee Act (Pub. L. 92-463), the Centers for Disease Control and Prevention (CDC) announces the following meeting:

Name: Disease, Disability, and Injury Prevention and Control Special Emphasis Panel (SEP): National Center for Prevention of Childhood Agricultural Injury, Program Announcement Number: OH-02-006.

Times and Dates: 7:30 p.m.-9 p.m., August 4, 2002 (Open), 8 a.m.-6 p.m., August 5, 2002 (Closed), 8 a.m.-10 a.m., August 6, 2002 (Closed).

Place: National Children's Center For Rural Agricultural Health and Safety, 1000 North Oak Avenue, Marshfield, WI 54449, phone (888) 924-7233.

Status: Portions of the meeting will be closed to the public in accordance with provisions set forth in section 552b(c) (4) and (6), Title 5 U.S.C., and the Determination of the Deputy Director for Program Management, CDC, pursuant to Public Law 92-463.

Matters to be Discussed: The meeting will include the review, discussion, and evaluation of applications received in response to RFA OH-02-006.

Contact Person for More Information: Price Connor, Ph.D., Scientific Review Administrator, National Institute for Occupational Safety and Health, CDC, 1600 Clifton Road NE, Atlanta, GA 30333, telephone (404) 498-2511. The Director, Management Analysis and Services Office has been delegated the authority to sign Federal Register notices pertaining to announcements of meetings and other committee management activities, for both the Centers for Disease Control and Prevention and the Agency for Toxic Substances and Disease Registry.

Dated: July 2, 2002.
Joe Salter,
Acting Director, Management Analysis and Services Office, Centers for Disease Control and Prevention (CDC).

[FR Doc. 02-17303 Filed 7-9-02; 8:45 am]

BILLING CODE 4163-19-P